DEPARTMENT OF THE INTERIOR

Bureau of Land Management

[ID-080-1210-PG]

Meeting

AGENCY: Bureau of Land Management, Upper Columbia-Salmon Clearwater District, Idaho.

ACTION: Notice of resource advisory council meeting.

SUMMARY: In accordance with the Federal Land Policy and Management Act and the Federal Advisory Committee Act of 1972 (FACA), 5 U.S.C. Appendix, the Bureau of Land Management (BLM) announces the meeting of the Upper Columbia-Salmon Clearwater District Resource Advisory Council (RAC) on Thursday, March 23, 2000 and Friday, March 24, 2000 in Missoula, Montana.

Agenda items include: Recreation standards and guidelines; election of officers; update on the Interior Columbia Basin Ecosystem Management Project; and identification of future issues. The meeting will begin at 1 p.m. (MST), March 23, 2000 at the C'mon Inn, 2775 Expo Parkway, Missoula, Montana. The public may address the Council during the public comment period from 2 p.m.-2:30 p.m. on March 23, 2000.

SUPPLEMENTARY INFORMATION: All Resource Advisory Council meetings are open to the public. Interested persons may make oral statements to the Council, or written statements may be submitted for the Council's consideration. Depending on the number of persons wishing to make oral statements, a per-person time limit may be established by the District Manager.

The Council's responsibilities include providing recommendations concerning long-range planning and establishing resource management priorities.

FOR FURTHER INFORMATION CONTACT: Ted Graf (208) 769-5004.

Dated: February 9, 2000.
Ted Graf,
Acting District Manager.

[FR Doc. 00-4399 Filed 2-24-00; 8:45 am]

BILLING CODE 4310-GG-M